DEPARTMENT OF THE INTERIOR

Fish and Wildlife Service

[FWS-R2-ES-2022-N223; FXES11140200000-212-FF02ENEH00]

Conservation Efforts To Protect Lesser Prairie-Chicken, Dunes Sagebrush Lizard, and Texas Kangaroo Rat; Comment Period Extensions

AGENCY: Fish and Wildlife Service, Interior.

ACTION: Notices of availability; public comment period extensions.

SUMMARY: The U.S. Fish and Wildlife Service (Service) is extending the public comment periods for three notices, due to temporary website outages that affected the public's access to the documents that the notices are making available for comment. The notices pertained to a combined candidate conservation agreement (CCA)\ candidate conservation agreements with assurances (CCAA) amendment, an oil and gas habitat conservation plan (HCP), and a new CCAA. The affected species include the lesser prairie-chicken (Tympanuchus pallidicinctus), the dunes sagebrush lizard (Sceloporus arenicolus), and the Texas kangaroo rat (Dipodomys elator).

DATES: The comment periods for the following notices of availability of documents are extended. See SUPPLEMENTARY INFORMATION, below, for the document titles:

• FWS-R2-ES-2021-N196 (87 FR 7492, February 9, 2022): Please submit comments by March 18, 2022.

• FWS-R2-ES-2021-N195 (87 FR 8031, February 11, 2022): Please submit comments by March 21, 2022.

• FWS-R2-ES-2021-N028 (87 FR 9637, February 22, 2022): Please submit comments by March 31, 2022.

ADDRESSES:

Obtaining documents and submitting comments: See SUPPLEMENTARY INFORMATION, below, for the document titles. If you have previously submitted comments, you need not resubmit them. For more information, see Public Availability of Comments.

• FWS-R2-ES-2021-N196 (87 FR 7492, February 9, 2022): Obtain documents at https://www.fws.gov/media/new-mexico-cca-ccaa-lpc-dsl-amendment and https://www.fws.gov/media/new-mexico-cca-ccaa-lpc-dsl-ea-amendment. Submit written comments by email to nmesfo@fws.gov. Please note that your comment is in reference to the “CCA/CCAA for Lesser Prairie-Chicken and Dunes Sagebrush Lizard.”

• FWS-R2-ES-2021-N195 (87 FR 8031, February 11, 2022): Obtain documents at https://www.fws.gov/media/oil-and-gas-hcp-and-draft-ea-lesser-prairie-chicken. Submit written comments by email to arles@fws.gov. Please note that your comment is in reference to the “LPC Oil and Gas HCP”.

• FWS-R2-ES-2021-N028 (87 FR 9637, February 22, 2022): Obtain documents by any of the following means. In your request for documents, please reference the “Texas Kangaroo Rat CCAA.”

➢ Internet: https://www.fws.gov/media/texas-kangaroo-rat-draft-ccaa-and-nepa-documents.

➢ U.S. mail: You may obtain a CD-ROM (limited supply) or printed copies by contacting Ms. Debra T. Bills, 2005 Northeast Green Oaks Boulevard, Suite 140, Arlington, TX 76006.

➢ Email: arles@fws.gov.

Submit written comments by one of the following methods. In your comments, please reference “Texas Kangaroo Rat CCAA.”

➢ Email: arles@fws.gov.

➢ U.S. mail: Debra T. Bills (street address above).

➢ Fax: 817-277-1129.

We request that you send comments by only one of the above methods.

FOR FURTHER INFORMATION CONTACT:

• FWS-R2-ES-2021-N196: Shawn Sartorius, 505-761-4781.

• FWS-R2-ES-2021-N195 and FWS-R2-ES-2021-N028: Debra T. Bills, 817-277-1100.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), are extending the public comment periods for three recent Federal Register notices. For each of the notices, please submit any comments by the appropriate date set forth above in DATES. If you already submitted comments or information on the originally published notices, please do not resubmit them. Any such comments are incorporated as part of the public record of the action, and we will fully consider them in the preparation of any final determinations. For more information, please see the published notices:

• FWS-R2-ES-2021-N196: Draft Environmental Assessment for Amendments to the Candidate Conservation Agreement/Candidate Conservation Agreement With Assurances for the Lesser Prairie-Chicken (Tympanuchus pallidicinctus) and Dunes Sagebrush Lizard (Sceloporus arenicolus) in New Mexico (87 FR 7492, February 9, 2022)

• FWS-R2-ES-2021-N195: Application for an Incidental Take Permit; Oil and Gas Habitat Conservation Plan for the Lesser Prairie-Chicken; Colorado, Kansas, New Mexico, Oklahoma, and Texas (87 FR 8031, February 11, 2022)

• FWS-R2-ES-2021-N028: Draft Low Effect Screening Form for a Categorical Exclusion and Candidate Conservation Plan; Texas Kangaroo Rat Candidate Conservation Agreement With Assurances, Montague, Clay, Wichita, Archer, Wilbarger, Baylor, Hardeman, Foard, Childress, Cottle, and Motley Counties, Texas (87 FR 9637, February 22, 2022)

Public Availability of Comments

All comments we receive become part of the public record associated with the action. Requests for copies of comments will be handled in accordance with the Freedom of Information Act, the National Environmental Policy Act (NEPA), and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We issue this notice pursuant to section 10(c) of the Endangered Species Act (16 U.S.C. 1531 et seq.) and its implementing regulations (50 CFR 17.22 and 17.32) and NEPA (42 U.S.C. 4321 et seq.) and its implementing regulations (40 CFR 1506.6 and 43 CFR 46.305).

Amy L. Lueders,
Regional Director, Southwest Region, U.S. Fish and Wildlife Service.

[FR Doc. 2022-05161 Filed 3-10-22; 8:45 am]

BILLING CODE 4333-15-P